DEPARTMENT OF DEFENSE

Office of the Secretary

32 CFR Parts 43 and 50

Personal Commercial Solication on DoD Installations

AGENCY: Department of Defense.

ACTION: Proposed rule; correction.

SUMMARY: On Tuesday, April 19, 2005 (70 FR 20316), The Department of Defense published a proposed rule on “Personal Commercial Solication on DoD Installations.” The document includes the draft DD Form 2885, “Personal Commercial Solication Evaluation,” which was inadvertently omitted during the previous publication to be published as Appendix C to Part 50. All other information remains unchanged.

Dated: April 21, 2005.
L.M. Bynum,
Alternate OSD Federal Register Liaison Officer, Department of Defense.

BILLING CODE 5001-06-M

Appendix C to Part 50

[FR Doc. 05-8354 Filed 4-26-05; 8:45 am]

BILLING CODE 5001-06-C